DEPARTMENT OF COMMERCE

International Trade Administration

[A-570-601]

Tapered Roller Bearings and Parts Thereof, Finished and Unfinished, From the People's Republic of China: Preliminary Results of Antidumping Duty Administrative Review and New Shipper Reviews; 2011-2012

AGENCY: Import Administration, International Trade Administration, Department of Commerce.

SUMMARY: The Department of Commerce (Department) is conducting an administrative review and two new shipper reviews (NSRs) of the antidumping duty order on tapered roller bearings and parts thereof, finished and unfinished (TRBs), from the People's Republic of China (PRC). The administrative review covers six exporters of the subject merchandise,¹ of which the Department selected one mandatory respondent for individual examination (i.e., Changshan Peer Bearing Co. Ltd. (CPZ/SKF)). The NSRs cover Haining Automann Parts Co., Ltd. (Automann), and Zhejiang Zhengda Bearing Co., Ltd. (Zhengda). The period of review is June 1, 2011, through May 31, 2012.

¹ This figure does not include two companies for which the Department has rescinded this administrative review. See Tapered Roller Bearings and Parts Thereof, Finished and Unfinished From the People's Republic of China: Rescission, in Part, of Antidumping Duty Administrative Review, 78 FR 34985 (June 11, 2013).

We have preliminarily determined that certain respondents sold subject merchandise in the United States at prices below normal value (NV). If these preliminary results are adopted in the final results of these reviews, we will instruct U.S. Customs and Border Protection (CBP) to assess antidumping duties on all appropriate entries.

DATES: Effective Date: July 8, 2013.

FOR FURTHER INFORMATION CONTACT: Blaine Wiltse or Henry Almond, AD/CVD Operations, Office 2, Import Administration, International Trade Administration, U.S. Department of Commerce, 14th Street and Constitution Avenue NW., Washington, DC 20230; telephone: (202) 482-6345 or (202) 482-0049, respectively.

SUPPLEMENTARY INFORMATION:

Scope of the Order

The merchandise covered by the order includes tapered roller bearings. The subject merchandise is currently classifiable under Harmonized Tariff Schedule of the United States (HTSUS) subheadings: 8482.20.00, 8482.91.00.50, 8482.99.15, 8482.99.45, 8483.20.40, 8483.20.80, 8483.30.80, 8483.90.20, 8483.90.30, 8483.90.80, 8708.70.6060, 8708.99.2300, 8708.99.4850, 8708.99.6890, 8708.99.8115, and 8708.99.8180. The HTSUS subheadings are provided for convenience and customs purposes only; the written description of the scope of the order is dispositive.²

² See Notice of Antidumping Duty Order; Tapered Roller Bearings and Parts Thereof, Finished or Unfinished, From the People's Republic of China, 52 FR 22667 (June 15, 1987), for a complete description of the scope of the order.

Methodology

The Department has conducted this review in accordance with section 751(a)(1)(A) of the Tariff Act of 1930, as amended (the Act). Constructed export and export prices have been calculated in accordance with section 772 of the Act. Because the PRC is a nonmarket economy (NME) within the meaning of section 771(18) of the Act, NV has been calculated in accordance with section 773(c) of the Act. Specifically, the respondents' factors of production have been valued using surrogate values from Thailand, which is economically comparable to the PRC and a significant producer of comparable merchandise.

For a full description of the methodology underlying our conclusions, see the Preliminary Decision Memorandum, which is hereby adopted by this notice.³ The Preliminary Decision Memorandum is a public document and is on file electronically via Import Administration's Antidumping and Countervailing Duty Centralized Electronic Service System (IA ACCESS). IA ACCESS is available to registered users at http://iaaccess.trade.gov, and is available to all parties in the Central Records Unit, room 7046 of the main Department of Commerce building. In addition, a complete version of the Preliminary Decision Memorandum can be accessed directly on the internet at http://www.trade.gov/ia/. The signed Preliminary Decision Memorandum and the electronic versions of the Preliminary Decision Memorandum are identical in content.

³ See “Decision Memorandum for Preliminary Results of Antidumping Duty Administrative Review and New Shipper Reviews: Tapered Roller Bearings and Parts Thereof, Finished and Unfinished, from the People's Republic of China” from Christian Marsh, Deputy Assistant Secretary for Antidumping and Countervailing Duty Operations to Paul Piquado, Assistant Secretary for Import Administration, dated July 1, 2013 (Preliminary Decision Memorandum), issued concurrently with and hereby adopted by this notice.

Preliminary Results of Review

Regarding the administrative review, we preliminarily determine that the following weighted-average dumping margins exist for the period June 1, 2011, through May 31, 2012:

Exporter | Weighted- average dumping margin (percent)
Changshan Peer Bearing Co., Ltd. | 0.63
Dana Heavy Axle S.A. de C. V. * | 0.63
Zhejiang Sihe Machine Co., Ltd * | 0.63
Zhejiang Zhaofeng Mechanical and Electronic Co., Ltd. * | 0.63
PRC-Wide Entity ⁴ | 92.84
* This company applied for or demonstrated eligibility for a separate rate in this administrative review. The rate for this company is the calculated weighted-average dumping margin for CPZ/SKF. See the Preliminary Decision Memorandum.

⁴ The PRC-Wide Entity includes all entities for which the Department initiated a review but which did not establish their eligibility for a separate rate. See the Preliminary Decision Memorandum.

Regarding the NSRs, we preliminarily determine that the following weighted-average dumping margins exist for the period June 1, 2011, through May 31, 2012:

Exporter | Producer | Weighted- average dumping margin (percent)
Haining Automann Parts Co., Ltd | Haining Automann Parts Co., Ltd | 59.59
Zhejiang Zhengda Bearing Co., Ltd | Zhejiang Zhengda Bearing Co., Ltd | 0.00

Disclosure and Public Comment

The Department will disclose calculations performed for these preliminary results to the parties within five days of the date of publication of this notice in accordance with 19 CFR 351.224(b). Interested parties may submit case briefs no later than 30 days after the date of publication of these preliminary results of review.⁵ Rebuttals to case briefs may be filed no later than five days after the written comments are filed and all rebuttal comments must be limited to comments raised in the case briefs.⁶

⁵ See 19 CFR 351.309(c).

⁶ See 19 CFR 351.309(d).

Any interested party may request a hearing within 30 days of publication of this notice.⁷ Hearing requests should contain the following information: (1) The party's name, address, and telephone number; (2) the number of participants; and (3) a list of the issues to be discussed. Oral presentations will be limited to issues raised in the briefs. If a request for a hearing is made, parties will be notified of the time and date for the hearing to be held at the U.S. Department of Commerce, 14th Street and Constitution Avenue NW, Washington, DC 20230.⁸

⁷ See 19 CFR 351.310(c).

⁸ See 19 CFR 351.310(d).

The Department will issue the final results of this administrative review and these NSRs, which will include the results of its analysis of all issues raised in the case briefs, within 120 days of publication of these preliminary results, pursuant to section 751(a)(3)(A) of the Act.

Deadline for Submission of Publicly Available Surrogate Value Information

In accordance with 19 CFR 351.301(c)(3)(ii), the deadline for submission of publicly available information to value factors of production under 19 CFR 351.408(c) is 20 days after the date of publication of the preliminary results. In accordance with 19 CFR 351.301(c)(1) (2012), if an interested party submits factual information less than ten days before or on the applicable deadline for submission of such factual information, an interested party may submit factual information to rebut, clarify, or correct the factual information no later than ten days after such factual information is served on the interested party. However, the Department generally will not accept in the rebuttal submission additional or alternative surrogate value information not previously on the record, if the deadline for submission of surrogate value information has passed.⁹ Furthermore, the Department generally will not accept business proprietary information in either the surrogate value submissions or the rebuttals thereto, as the regulation regarding the submission of surrogate values allows only for the submission of publicly available information.¹⁰

⁹ See, e.g., Glycine from the People's Republic of China: Final Results of Antidumping Duty Administrative Review and Final Rescission, in Part, 72 FR 58809 (October 17, 2007), and accompanying Issues and Decision Memorandum at Comment 2.

¹⁰ See 19 CFR 351.301(c)(3).

Assessment Rates

Upon issuance of the final results, the Department will determine, and CBP shall assess, antidumping duties on all appropriate entries covered by these reviews.¹¹ The Department intends to issue assessment instructions to CBP 15 days after the publication date of the final results of these reviews.

¹¹ See 19 CFR 351.212(b).

For each individually examined respondent in these reviews (i.e., CPZ/SKF, Automann, and Zhengda) which has a weighted-average dumping margin which is not zero or de minimis (i.e., less than 0.5 percent), we will calculate importer-specific ad valorem duty assessment rates based on the ratio of the total amount of dumping calculated for the importer's examined sales to the total entered value of those sales, in accordance with 19 CFR 351.212(b)(1). For the respondents which were not selected for individual examination in this administrative review and which qualified for a separate rate, the assessment rate will be equal to the weighted-average dumping margin assigned to each respondent in the final results of this administrative review. For the PRC-wide entity, the assessment rate will be equal to the weighted-average dumping margin assigned to it in the final results of this administrative review.

We will instruct CBP to assess antidumping duties on all appropriate entries covered by these reviews. Where either the respondent's weighted-average dumping margin is zero or de minimis, or an importer-specific assessment rate is zero or de minimis, we will instruct CBP to liquidate the appropriate entries without regard to antidumping duties.

The Department recently announced a refinement to its assessment practice in NME cases. Pursuant to this refinement in practice, for entries that were not reported in the U.S. sales databases submitted by companies individually examined during this review, the Department will instruct CBP to liquidate such entries at the PRC-wide rate. Additionally, if the Department determines that an exporter had no shipments of the subject merchandise, any suspended entries that entered under that exporter's case number (i.e., at that exporter's rate) will be liquidated at the PRC-wide rate.

Cash Deposit Requirements

The following cash deposit requirements will be effective upon publication of the final results of this administrative review for all shipments of the subject merchandise entered, or withdrawn from warehouse, for consumption on or after the publication date, as provided for by section 751(a)(2)(C) of the Act: (1) For the exporters listed above which have a separate rate, the cash deposit rate will be the rate established in the final results of this review (except, if the rate is zero or de minimis, then a cash deposit rate of zero will be established for that company); (2) for previously investigated or reviewed PRC and non-PRC exporters not listed above that have separate rates, the cash deposit rate will continue to be the exporter-specific rate published for the most recently completed segment of this proceeding; (3) for all PRC exporters of subject merchandise that have not been found to be entitled to a separate rate, the cash deposit rate will be the rate for the PRC-wide entity, 92.84 percent; and (4) for all non-PRC exporters of subject merchandise which have not received their own rate, the cash deposit rate will be the rate applicable to the PRC exporter(s) that supplied that non-PRC exporter.

With respect to the NSRs, consistent with the Department's practice, the Department has established a combination cash deposit rate for Automann and Zhengda as follows: (1) For subject merchandise exported and produced by Automann or Zhengda, the cash deposit rate will be the rate established for each company in the final results of this review; (2) for subject merchandise exported by Automann or Zhengda but not produced by the same company, the cash deposit rate will be the rate for the PRC-wide entity, 92.84 percent; (3) for subject merchandise produced by Automann or Zhengda but not exported by the same company, the cash deposit rate will be the rate applicable to that exporter.

These deposit requirements, when imposed, shall remain in effect until further notice.

Notification to Importers

This notice also serves as a preliminary reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

We are issuing and publishing these preliminary results of reviews in accordance with sections 751(a)(1), 751(a)(2)(B) and 777(i)(1) of the Act.

Dated: July 1, 2013.
Paul Piquado,
Assistant Secretary for Import Administration.

Appendix—List of Topics Discussed in the Preliminary Decision Memorandum

1. Summary

2. Background

3. Scope of the Order

4. Bona Fides Analysis

5. Discussion of the Methodology

a. Non-Market Economy Country

b. Separate Rates

c. Separate Rate for Non-Selected Companies

d. Surrogate Country

e. Date of Sale

f. Normal Value Comparisons

6. Conclusion

[FR Doc. 2013-16344 Filed 7-5-13; 8:45 am]

BILLING CODE 3510-DS-P